ENVIRONMENTAL PROTECTION AGENCY

[FRL-6938-6]

Notice of Proposed Prospective Purchaser Agreement Pursuant to the Comprehensive Environmental Response, Compensation and Liability Act of 1980, as Amended by the Superfund Amendments and Reauthorization Act of 1986

AGENCY: Environmental Protection Agency.

ACTION: Notice of reopening of Public Comment period.

SUMMARY: This notice informs the public that the period for submission of comments in relation to the above-referenced Prospective Purchaser Agreement is hereby extended for an additional 30 days from the date of publication of this Notice. In accordance with the Comprehensive Environmental Response, Compensation, and Liability Act of 1980, 42 U.S.C. 9601-9675, as amended (“CERCLA”), the proposed agreement will allow reuse of an abandoned industrial facility associated with the Metcoa Radiation Superfund Site (“Site”) in Pulaski, Lawrence County, Pennsylvania, and will resolve certain potential EPA claims under Section 107 of CERCLA, 42 U.S.C. 9607, against the Purchaser.

ADDRESSES: Comments should be submitted to Suzanne Canning, Regional Docket Clerk (3RC00), U.S. Environmental Protection Agency, Region III, 1650, Arch Street, Philadelphia, PA 19103, or by e-mail to canning.suzanne@epa.gov, and should refer to the “Metcoa Radiation Superfund Site Prospective Purchaser Agreement” and “EPA Docket No. CERC-PPA-2000-0008.” The proposed agreement and additional background information relating to it may be examined and/or copied at the above EPA office. A copy of the proposed agreement may be obtained by mail from Suzanne Canning at the above address.

SUPPLEMENTARY INFORMATION: The Environmental Protection Agency published in the Federal Register of December 13, 2000 (65 FR 77876), a Notice of Prospective Purchaser Agreement in relation to the Metcoa Radiation Superfund Site. In the public interest, the Environmental Protection Agency has reopened and extended to the Public Comment period in relation to this agreement for an additional thirty (30) days from the date of publication of this Notice.

FOR FURTHER INFORMATION CONTACT: Humane L. Zia (3RC41), Assistant Regional Counsel, U.S. Environmental Protection Agency, Region III, 1650 Arch Street, Philadelphia, PA 19103; phone: (215) 814-3454.

Dated: January 19, 2001.
Bradley M. Campbell,
Regional Administrator, U.S. Environmental Protection Agency, Region III.

[FR Doc. 01-2569 Filed 1-29-01; 8:45 am]

BILLING CODE 6560-50-M